DEPARTMENT OF JUSTICE

Antitrust Division

Notice Pursuant to the National Cooperative Research and Production Act of 1993—Members of SGIP 2.0, Inc.

Notice is hereby given that, on April 26, 2013, pursuant to Section 6(a) of the National Cooperative Research and Production Act of 1993, 15 U.S.C. 4301 et seq. (“the Act”), Members of SGIP 2.0, Inc. (“MSGIP 2.0”) has filed written notifications simultaneously with the Attorney General and the Federal Trade Commission disclosing changes in its membership. The notifications were filed for the purpose of extending the Act's provisions limiting the recovery of antitrust plaintiffs to actual damages under specified circumstances. Specifically, Public Utilities Commission of Ohio, Columbus, OH, Taiwan Smart Grid Industry Association (TSGIA), Taipei City, TAIWAN; Z-Wave Alliance, Milpitas, CA; Nuclear Regulatory Commission, Rockville, MD; Intel Corporation, Hillsboro, OR; Tennessee Valley Authority, Chattanooga, TN; MISO, Carmel, IN; Underwriters Laboratories, Inc., Northbrook, IL; Nexans, Bethel, CT; Telecommunications Industry Association, Arlington, VA; Microsoft Corporation, Redmond, WA; Stroz Freidberg, LLC, New York, NY; Cisco Systems, Inc., Boxborough, MA; Elster Solutions, Raleigh, NC; Federal Energy Regulatory Commission, Washington, DC; OpenADR Alliance, Morgan Hill, CA; Public Service Electric and Gas Company (PSE&G), Newark, NJ; SAE International, Troy, MI; QualityLogic, Inc., Moorpark, CA; Emerson Electric Co., St. Louis, MO; Virginia State Corporation Commission, Richmond, VA; Ambient Corporation, Newton, MA; FutureDOS, Calgary, Alberta, CANADA; Opower, Arlington, VA; CSA Group, Toronto, Ontario, CANADA; Greater Sudbury Hydro Inc., Sudbury, Ontario, CANADA; Lockheed Martin, Gaithersburg, MD; National Association of Regulatory Utility Commissioners (NARUC), Washington, DC; Xanthus Consulting International, Boulder Creek, CA; Xcel Energy Inc., Denver, CO; Carnegie Mellon University, Pittsburgh, PA; e-Radio United States Inc., Redwood, CA; Ericsson Inc., Town of Mount Royal, Quebec, CANADA; GridWise Alliance, Washington, DC; Verizon Communications, Basking Ridge, NJ; Alcatraz Energy, Boulder, CO; Grid Net, San Francisco, CA; LonMark International, San Jose, CA; Modbus Organization, Inc., Hopkinton, MA; PowerGrid360, San Jose, CA; RCES Center from University of Texas at El Paso, El Paso, TX; Tacoma Power, Tacoma, WA; TUV Rheinland of North America, Pleasanton, CA; Washington Laboratories, Gaithersburg, MD; International Business Machines Corporation (IBM), Yorktown Heights, NY; ABB Inc., Raleigh, NC; ARC Informatique, Sevres, FRANCE; BC Hydro, Vancouver, British Columbia, CANADA; Duke Energy, Charlotte, NC; IE Technologies, Windsor, CO; Milbank Manufacturing Co., Kansas City, MO; NovaTech LLC, Quakertown, PA; Quadlogic Controls Corp., Long Island City, NY; Kyocera Telecommunications Research Center (KTRC), Fremont, CA; Air Conditioning, Heating & Refrigeration Institute, Arlington, VA; Gas Technology Institute, Des Plaines, IL; HD-PLC Alliance, Fukuoka, JAPAN; TeMix Inc., Los Altos, CA; The International Society of Automation (ISA), Research Triangle Park, NC; Controlco, Oakland, CA; Cox Software Architects LLC, Summit, NJ; Aclara Technologies, LLC, Hazelwood, MO; IEEE Standards Association, Piscataway, NJ; Lutron Electronics Co., Inc., Coopersburg, PA; OakTree Consulting, Austin, TX; Patrick M. Duggan Enterprises, Inc., Valley Cottage, NY; Smart Grid Operations Consulting, Sunnyvale, CA; SmartGrid Network, Chicago, IL; Tansy Energy Network, Scott Valley, CA; Tata Consultancy Services Limited, Mumbai, INDIA; TC9, Inc., Pittsboro, NC; NEC Laboratories America, Cupertino, CA; Public Utility Commission of Texas, Austin, TX; Rebecca Herold and Associates, Van Meter, IA; UCA International Users Group, Raleigh, NC; Yokogawa Electric Corporation, Tokyo, JAPAN; Facilities Electrical Consulting Services, Easton, PA; Metatech Corporation, Goleta, CA; Amzur Technologies, Inc., Tampa, FL; Reef Energy Systems, LLC, Danville, CA; Duquesne Light Company, Pittsburgh, PA; Reilly Associates, Red Bank, NJ; and MidAmerican Energy Company, Davenport, IA, have been added as parties to this venture.

No other changes have been made in either the membership or planned activity of the group research project. Membership in this group research project remains open, and MSGIP 2.0 intends to file additional written notifications disclosing all changes in membership.

On February 5, 2013, MSGIP 2.0 filed its original notification pursuant to Section 6(a) of the Act. The Department of Justice published a notice in the Federal Register pursuant to Section 6(b) of the Act on March 7, 2013 (78 FR 14836).

Patricia A. Brink,
Director of Civil Enforcement, Antitrust Division.

[FR Doc. 2013-12483 Filed 5-24-13; 8:45 am]

BILLING CODE P